DEPARTMENT OF HOUSING AND URBAN DEVELOPMENT

[Docket No. FR-5300-N-18]

Notice of Availability: Notice of Funding Availability (NOFA) for Fiscal Year (FY) 2009 Community Development Technical Assistance (CD-TA) Program

AGENCY: Office of the Assistant Secretary for Community Planning and Development, HUD.

ACTION: Notice.

SUMMARY: Through this notice, HUD announces the availability on its website of the application information, submission deadlines, funding criteria, and other requirements for the FY2009 Community Development Technical Assistance (CD-TA) Program NOFA. The FY2009 CD-TA NOFA makes $23.8 million available to provide technical assistance to achieve the highest level of performance and results for five separate community development areas. These areas are the Home Program (HOME), Home Investment Partnerships for Community Housing Development Organizations (CHDO, HOME), McKinney-Vento Homeless Assistance (Homeless), Housing Opportunities for Persons with AIDS (HOPWA) and Community Development Block Grants (CDBG). The notice providing information regarding the application process, funding criteria and eligibility requirements is available on the Grants.gov website at https://apply07.grants.gov/apply/forms_apps_idx.html. A link to Grants.gov is also available on the HUD Web site at http://www.hud.gov/offices/adm/grants/fundsavail.cfm. The Catalogue of Federal Domestic Assistance (CFDA) numbers for the CD-TA program are: 14.239 HOME and CHDO (HOME), 14.235 Homeless. 14.241 HOPWA, 14.218 CDBG Entitlement Grants, 14.219 CDBG States and Small Cities Program, 14.227 CDBG/Technical Assistance Program (B), 14.225 CDBG Insular Program, and 14.248 CDBG Section 108. Applications must be submitted electronically through Grants.gov.

FOR FURTHER INFORMATION CONTACT: For information concerning the CD-TA program, contact Guadelupe M. Herrera, Deputy Director, Office of Technical Assistance and Management, Office of Community Planning and Development, telephone number 202-708-4604 (this is not a toll-free numbers), Department of Housing and Urban Development, 451 Seventh Street, SW., Room 7228, Washington DC 20410-7000. Persons with speech or hearing impairments may access these telephone numbers via TTY by calling the toll-free Federal Information Relay Service during working hours at 800-877-8339.

Dated: August 31, 2009.
Mercedes Márquez,
Assistant Secretary for Community Planning and Development.

[FR Doc. E9-22253 Filed 9-11-09; 11:15 am]

BILLING CODE 4210-67-P